DEPARTMENT OF LABOR

Office of the Secretary

Notice of Public Hearing To Collect Information To Assist in the Development of the List of Goods From Countries Produced by Child Labor or Forced Labor

AGENCY: Bureau of International Labor Affairs, Department of Labor.

ACTION: Notice of public hearing to collect information to assist in the development of a list of goods from countries produced by child labor or forced labor in violation of international standards; request for submission of testimony.

SUMMARY: The Department of Labor (“DOL”) will hold a public hearing for the purpose of gathering factual information regarding the use of child labor and forced labor worldwide in the production of goods at 10:30 a.m. on Wednesday, May 28, 2008. The hearing will take place in the Auditorium of the Frances Perkins Building, U.S. Department of Labor, 200 Constitution Ave., NW., Washington DC 20210, and will be open to the public. This hearing is conducted pursuant to section 105(b)(1) of the Trafficking Victims Protection Reauthorization Act of 2005 (“TVPRA of 2005”), Public Law 109-164 (2006), and as set forth in the Notice of Procedural Guidelines for the Development and Maintenance of the List of Goods From Countries Produced by Child Labor or Forced Labor (“Guidelines”), 72 FR 73374 (December 27, 2007). All members of the public attending the hearing must register by May 14 in order to facilitate building security. DOL is now accepting requests from all interested parties to provide oral and/or written testimony and/or exhibits at the hearing. Each presentation will be limited to 10 minutes and must be submitted in writing to the Office of Child Labor, Forced Labor, and Human Trafficking by May 7. The Department is not able to provide financial assistance to those wishing to travel to attend the hearing. Those unable to attend the hearing are invited to submit written testimony. Please refer to the DATES, FURTHER INFORMATION, and “Scope of Interest” sections of this Notice for additional instructions on registration, notification, and submission requirements.

The DOL Office of Child Labor, Forced Labor, and Human Trafficking (“Office”) is currently developing a list of goods (“the List”) from countries that the Office has reason to believe are produced by child labor or forced labor in violation of international standards. DOL is required to develop and make available to the public the List pursuant to the TVPRA of 2005. Information provided at the hearing will be considered by the Office in developing the List. Testimony should be confined to the specific topic of the use of child labor and forced labor in the production of goods internationally, as well as information on government, industry, or third-party actions and initiatives to address these problems. The Office is particularly interested in information tending to demonstrate the presence or absence of a significant incidence of child labor or forced labor in the production of a particular good.

DATES: The hearing is scheduled for Wednesday, May 28, 2008. Parties who intend to present testimony at the hearing must notify DOL of their intention to appear, in writing, by 5 p.m., April 30. Presenters will be required to submit four written copies of their full testimony in English and all documentary evidence and/or exhibits to the Office by 5 p.m., May 7. Those attending but not presenting at the hearing must register by May 14. The record will be kept open for additional written testimony until 5 p.m., June 11, 2008. Information received after that date may not be taken into consideration in developing the initial List, but will be considered by the Office as the List is maintained and updated in the future.

To Give Notice of Intention To Appear, Submit Written Testimony, or for Further Information, Contact: Charita Castro, Office of Child Labor, Forced Labor, and Human Trafficking, Bureau of International Labor Affairs, U.S. Department of Labor at (202) 693-4843 (this is not a toll-free number). Written testimony and documentary evidence may be submitted by the following methods:

• Facsimile (fax): Permitted for submissions of 10 pages or fewer. ILAB/Office of Child Labor, Forced Labor, and Human Trafficking at 202-693-4830.

• Mail, Express Delivery, Hand Delivery, and Messenger Service: Charita Castro/Leyla Strotkamp at U.S. Department of Labor, ILAB/Office of Child Labor, Forced Labor, and Human Trafficking, 200 Constitution Ave., NW., Room S-5317, Washington, DC 20210.

• E-mail: ilab-tvpra@dol.gov.

Note that security-related problems may result in significant delays in receiving materials by mail.

To Register To Attend the Hearing, Contact: Leyla Strotkamp, Office of Child Labor, Forced Labor, and Human Trafficking, Bureau of International Affairs, U.S. Department of Labor at (202) 693-4813 or Strotkamp.Leyla@dol.gov. Please provide Ms. Strotkamp with attendees' contact information, including name, organization, address, phone number, and e-mail address.

Opportunity To Appear: The hearing is open to the public, and all interested parties are welcome to attend. However, only a party who files a complete notice of intention to appear will be able to present at the hearing. The presiding official reserves the right to limit oral statements in the interest of time and to otherwise keep the hearing focused.

Special Accommodations: Persons who wish to request any of the following accommodations should contact Ms. Strotkamp by April 30: a presentation that exceeds 10 minutes; technical assistance for a presentation; submission of exhibits or other physical evidence for the record; or accommodation of a disability.

For presentations that exceed 10 minutes and/or include the submission of evidence, ILAB will review each submission and determine if it warrants the additional time requested. If ILAB believes the requested additional time is excessive, it will allocate an appropriate amount of time to the presentation, and notify the participant before the hearing. ILAB may limit to 10 minutes the presentation of any participant who fails to comply substantially with these procedural requirements; ILAB may request any participant to return for additional questioning at a later time.

Scope of Interest: DOL requests information that is current and directly addresses the nature and extent of child labor or forced labor in the production of goods, or the nature and extent of actions and initiatives to combat child labor and forced labor. Governments that have ratified International Labor Organization (“ILO”) Convention 138 (Minimum Age), Convention 182 (Worst Forms of Child Labor), Convention 29 (Forced Labor) and/or Convention 105 (Abolition of Forced Labor) may wish to submit relevant copies of their responses to any Observations or Direct Requests by the ILO's Committee of Experts on the Application of Conventions and Recommendations. Exhibits submitted may include studies, reports, statistics, new articles, electronic media, or other sources, as set forth in section “Information Requested on Child Labor and Forced Labor” of 72 FR 73374 (December 27, 2007). Submitters of oral or written testimony should take into consideration the “Sources of Information and Factors Considered in the Development and Maintenance of the List” (Section A of the Procedural Guidelines), as well as the definitions of child labor and forced labor contained in Section C of the Guidelines. Refer to 72 FR 73374 (December 27, 2007).

Where applicable, testimony providing factual information should indicate its source or sources, and copies of the source material should be provided. If primary sources are utilized, such as research studies, interviews, direct observations, or other sources of quantitative or qualitative data, details on the research or data-gathering methodology should be provided.

Written testimony, and written copies of oral testimony, should be submitted to the addresses and by the deadlines set forth above. Submissions made via fax, mail, express delivery, hand delivery, or messenger service should clearly identify the person filing the submission and should be signed and dated. Submissions made via mail, express delivery, hand delivery, or messenger service should include an original plus three copies of all materials and attachments. If possible, submitters should also provide copies of such materials and attachments on a CD-ROM or similar electronic media. Note that security-related screening may result in significant delays in receiving comments and other written materials submitted by regular mail.

Government classified information will not be accepted. The Office may request that classified information brought to its attention be declassified. Submissions containing confidential or personal information may be redacted by the Office before being made available to the public, in accordance with applicable laws and regulations. The Official Record of this Public Hearing, including statements submitted for the record, will be published and made available to the public on the DOL Web site.

SUPPLEMENTARY INFORMATION: Section 105(b)(1) of the TVPRA of 2005, Public Law 109-164 (2006), directed the Secretary of Labor, acting through the Bureau of International Labor Affairs, to “carry out additional activities to monitor and combat forced labor and child labor in foreign countries.” Section 105(b)(2) of the TVPRA, 22 U.S.C. 7112(b)(2), listed these activities as:

(A) Monitor the use of forced labor and child labor in violation of international standards;

(B) Provide information regarding trafficking in persons for the purpose of forced labor to the Office to Monitor and Combat Trafficking of the Department of State for inclusion in [the] trafficking in persons report required by section 110(b) of the Trafficking Victims Protection Act of 2000 (22 U.S.C. 7107(b));

(C) Develop and make available to the public a list of goods from countries that the Bureau of International Labor Affairs has reason to believe are produced by forced labor or child labor in violation of international standards;

(D) Work with persons who are involved in the production of goods on the list described in subparagraph (C) to create a standard set of practices that will reduce the likelihood that such persons will produce goods using the labor described in such subparagraph; and

(E) Consult with other departments and agencies of the United States Government to reduce forced labor and child labor internationally and ensure that products made by forced labor and child labor in violation of international standards are not imported into the United States.

The Office carries out the DOL mandates in the TVPRA. The Guidelines provide the framework for ILAB's implementation of the TVPRA mandate, and establish procedures for the submission and review of information and the process for developing and maintaining the List. In addition to the Office's efforts under the TVPRA, the Office conducts and publishes research on child labor and forced labor worldwide. The Office consults such sources as DOL's Findings on the Worst Forms of Child Labor; the Department of State's annual Country Reports on Human Rights Practices and Trafficking in Persons Report; reports by governmental, non-governmental, and international organizations; and reports by academic and research institutions and other sources.

The Office will evaluate all information received according to the processes outlined in the published Guidelines, 72 FR 73374 (December 27, 2007). Goods that meet the criteria outlined in the Guidelines will be placed on an initial List, and published in the Federal Register and on the DOL Web site. DOL intends to maintain and update the List over time, through its own research, interagency consultations, and additional public submissions of information.

Signed at Washington, DC, this 17th day of April, 2008.
Charlotte M. Ponticelli,
Deputy Under Secretary for International Affairs.

[FR Doc. E8-8709 Filed 4-22-08; 8:45 am]

BILLING CODE 4510-28-P